DEPARTMENT OF THE INTERIOR

Bureau of Land Management

[LLNM93200000 L54200000.FR0000 LVDIG15ZGKM0]

Notice of Application for a Recordable Disclaimer of Interest: Texas

AGENCY: Bureau of Land Management, Department of the Interior.

ACTION: Notice.

SUMMARY: The Bureau of Land Management (BLM) received an application for a Recordable Disclaimer of Interest (Disclaimer) from the heirs of Virginia C. Yeager and Opal Keating pursuant to Section 315 of the Federal Land Policy and Management Act of 1976 (FLPMA), as amended, and the regulations in 43 CFR subpart 1864, for the mineral estate of land lying near Benbrook Lake in Tarrant County, Texas. This notice is intended to inform the public of the pending application, give notice of BLM's intention to grant the requested Disclaimer of Interest, and provide a public comment period for the Disclaimer of Interest.

DATES: Comments on this action should be received within ninety (90) days from the publication of this notice, by January 4, 2016.

ADDRESSES: Written comments must be sent to the Deputy State Director, Lands and Resources, BLM, New Mexico State Office, P.O. Box 27115, Santa Fe, NM 87502-0115.

FOR FURTHER INFORMATION CONTACT: Debby Lucero, State Realty Specialist, 505-954-2196. Additional information pertaining to this application can be reviewed in case file TXNM114501 located in the New Mexico State Office, 301 Dinosaur Trail, Santa Fe, NM 87508. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Pursuant to Section 315 of FLPMA (43 U.S.C. 1745), the heirs of Virginia C. Yeager and Opal Keating filed an application for a Disclaimer of Interest in the mineral estate for the following tracts of land situated in Tarrant County, State of Texas:

Tract No. C-214

A tract of land situated in the County of Tarrant, State of Texas.

Tract No. C-215

A tract of land situated in the County of Tarrant, State of Texas.

These tracts described are shown upon the United States Army Corps of Engineers, Office of the Fort Worth District Engineer, Southwestern Division Project Map, entitled “REAL ESTATE BENBROOK LAKE,” dated November 5, 1986. The area contains approximately 298 acres as identified by the U.S. Army Corps of Engineers (Corps) documentations listed above.

The New Mexico State Office's review of the land status records and title records provided by the applicant indicate that the Corps purchased the tracts in October 1950. Prior to the Corps' acquisition of the tracts, the mineral estate was transferred from J.W. Corn to his daughters in July 1922 by recorded deed (Book 745, pg. 578). After consultation with the Corps, BLM has determined that the Corps did not acquire the mineral estate when the United States purchased the land in 1950. It is the opinion of this office that the Federal government does not own the mineral interest in the two tracts.

This proposed Disclaimer of Interest does not address any surface interest that may still be vested with the United States of America.

The public is hereby notified that comments may be submitted to the Deputy State Director, Lands and Resources at the address shown above within the comment period identified in the notice. Any adverse comments will be evaluated by the State Director who may modify or vacate this action and issue a final determination.

In the absence of any valid objection, this notice will become the final determination of the Department of the Interior and a Disclaimer of Interest may be issued 90 days from publication of this notice.

All persons who wish to present comments, suggestions, or objections in connection with the proposed Disclaimer may do so by writing to the Deputy State Director at the above address. Comments, including names and street addresses of commenters, will be available for public review at the BLM New Mexico State Office (see address above), during regular business hours, Monday through Friday, except Federal holidays. Before including your address, phone number, email address, or other personal identifying information in your comment, you should be aware that your entire comment—including your personal identifying information—may be made publicly available at any time. While you can ask us in your comment to withhold your personal identifying information from public review, we cannot guarantee that we will be able to do so.

Authority: 43 CFR 1864.2(a).

James K. Stovall,
Acting Deputy State Director, Lands and Resources.

[FR Doc. 2015-25287 Filed 10-2-15; 8:45 am]

BILLING CODE 4310-FB-P